FEDERAL COMMUNICATIONS COMMISSION

Sunshine Act Meeting; Deletion of Agenda Item From May 9, 2013 Open Meeting

May 8, 2013.

The following item has been adopted by the Commission and deleted from the list of agenda items scheduled for consideration at the Thursday, May 9, 2013, Open Meeting and previously listed in the Commission's Notice of May 2, 2013.

Item No. | Bureau | Subject
3 | PUBLIC SAFETY AND HOMELAND SECURITY | TITLE: Facilitating the Deployment of Text-to-911 and Other Next Generation 911 Applications; Framework for Next Generation 911 Deployment (PS Docket Nos. 11-153; 10-255). SUMMARY: The Commission will consider a Report and Order requiring CMRS providers and providers of interconnected text messaging services to provide consumers with an automatic bounce-back message if the consumer attempts to text 911 where that capability is unavailable.

Federal Communications Commission.
Marlene H. Dortch,
Secretary, Office of the Secretary, Office of Managing Director.

[FR Doc. 2013-11504 Filed 5-10-13; 11:15 am]

BILLING CODE 6712-01-P